DEPARTMENT OF LABOR

Employment and Training Administration

[TA-W-62,329]

Honeywell Sensing and Control, ACS Division, Including On-Site Leased Workers From Manpower, Westaff and Ad-Vance Personnel, Sarasota, FL; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on October 26, 2007, applicable to workers of Honeywell Sensing and Control, ACS Division, including on-site leased workers from Manpower, Sarasota, Florida. The notice was published in the Federal Register on November 6, 2007 (72 FR 62682).

At the request of the State agency, the Department reviewed the certification for workers of the subject firm. The workers are engaged in the production of speed, direction, and position sensors for the aerospace, industrial and transportation industries.

New information shows that leased workers of Westaff and Ad-Vance Personnel were employed on-site at the Sarasota, Florida, location of Honeywell Sensing and Control, ACS Division. The Department has determined that these workers were sufficiently under the control of Honeywell Sensing and Control, ACS Division to be considered leased workers.

Based on these findings, the Department is amending this certification to include leased workers of Westaff and Ad-Vance Personnel working on-site at the Sarasota, Florida, location of the subject firm.

The intent of the Department's certification is to include all workers employed at Honeywell Sensing and Control, ACS Division, Sarasota, Florida, who were adversely impacted by a shift in production of speed, direction, and position sensors to Mexico.

The amended notice applicable to TA-W-62,329 is hereby issued as follows:

All workers of Honeywell Sensing and Control, ACS Division, including on-site leased workers of Manpower, Westaff and Ad-Vance Personnel, Sarasota, Florida, who became totally or partially separated from employment on or after October 17, 2006, through October 26, 2009, are eligible to apply for adjustment assistance under Section 223 of the Trade Act of 1974, and are also eligible to apply for alternative trade adjustment assistance under Section 246 of the Trade Act of 1974.

Signed at Washington, DC, this 8th day of November 2007.
Linda G. Poole,
Certifying Officer, Division of Trade Adjustment Assistance.

[FR Doc. E7-22407 Filed 11-15-07; 8:45 am]

BILLING CODE 4510-FN-P